DEPARTMENT OF HEALTH AND HUMAN SERVICES

Administration for Community Living

Agency Information Collection Activities; Submission for OMB Review; Public Comment Request; Evidence Based Program Fidelity Surveys [OMB #0985-New]

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to the information collection requirements for the Evidence Based Program Fidelity Surveys [OMB #0985-New].

DATES: Submit written comments on the collection of information by December 16, 2021.

ADDRESSES: Submit written comments and recommendations for the proposed information collection within 30 days of publication of this notice online at www.reginfo.gov/public/do/PRAMain. Find the information collection by selecting “Currently under 30-day Review—Open for Public Comments” or by using the search function. Written comments can also be submitted By mail to the Office of Information and Regulatory Affairs, OMB, New Executive Office Bldg., 725 17th St. NW, Rm. 10235, Washington, DC 20503, Attn: OMB Desk Officer for ACL.

FOR FURTHER INFORMATION CONTACT: Susan Jenkins, Administration for Community Living, Washington, DC 20201, 202-795-7369 or by email: Susan.Jenkins@acl.hhs.gov.

SUPPLEMENTARY INFORMATION: In compliance with 44 U.S.C. 3507, ACL has submitted the following proposed collection of information to OMB for review and clearance.

The Administration for Community Living (ACL) is requesting approval to collect data for the Evidence Based Program Fidelity Surveys [OMB #0985-New]. The Evidence Based Program Fidelity Surveys will be used by ACL to evaluate the fidelity with which ACL's grantee organizations, under the Older Americans Act, implement the required evidence-based programs. States that receive Older Americans Act funds under Title III-D are required to spend those funds on evidence-based programs to improve the health and well-being of their clients and to reduce disease and injury. Since 2003, the aging services network has been steadily moving towards wider implementation of disease prevention and health promotion programs that are based on scientific evidence and demonstrated to improve the health of older adults. The FY 2012 Congressional appropriations law included, for the first time, an evidence-based requirement related to Title III-D funds.

The results of this information collection will be used by ACL/AoA to:

• Effectively report its results to the President, to Congress, to the Department of Health and Human Services and to the public.

• Assess the effectiveness of ACL and its grantees in monitoring program fidelity.

• Aid in program refinement and continuous improvement.

Comments in Response to the 60-Day Federal Register Notice

A notice published in the Federal Register on, July 12, 2021 in 86 FR 13720. There were 0 public comments received during the 60-day FRN.

Estimated Program Burden:

ACL estimates the burden associated with this collection of information as follows:

Respondent/data collection activity | Number of respondents | Responses per respondent | Hours per response | Annual burden hours
Grantee: Program selection process and survey | 103 | 1 | 2.00 | 206
Local Implementation Organization Survey | 412 | 1 | 0.58 | 239
Total: | 515 | 1 | 0.86 | 445

Dated: November 9, 2021.
Alison Barkoff,
Acting Administrator and Assistant Secretary for Aging.

[FR Doc. 2021-24923 Filed 11-15-21; 8:45 am]

BILLING CODE 4154-01-P